NUCLEAR REGULATORY COMMISSION

[Docket No. 50-443-LR; ASLBP No. 10-906-02-LR-BD01]

Nextera Energy Seabrook, LLC; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding:

Nextera Energy Seabrook, LLC (Seabrook Station, Unit 1)

This proceeding involves an application by NextEra Energy Seabrook, LLC for a twenty-year renewal of license 50-443, which authorizes NextEra Energy Seabrook, LLC to operate Seabrook Station, Unit 1 located near Portsmouth, New Hampshire. The current operating license expires on March 15, 2030. In response to a July 21, 2010 Notice of Opportunity for Hearing published in the Federal Register (75 FR 42,462), two petitions to intervene were submitted. One petition is a joint filing by Beyond Nuclear, Seacoast Anti-Pollution League, and New Hampshire Sierra Club; the other petition is a filing by Friends of the Coast and New England Coalition.

The Board is comprised of the following administrative judges:

Paul S. Ryerson, Chair, Atomic Safety and Licensing Board Panel, U.S. Nuclear Regulatory Commission, Washington, DC 20555-0001.

Dr. Michael F. Kennedy, Atomic Safety and Licensing Board Panel, U.S. Nuclear Regulatory Commission, Washington, DC 20555-0001.

Dr. Richard E. Wardwell, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 26th day of October 2010.
E. Roy Hawkens,
Chief Administrative Judge, Atomic Safety and Licensing Board Panel.

[FR Doc. 2010-27513 Filed 10-29-10; 8:45 am]

BILLING CODE 7590-01-P